GENERAL SERVICES ADMINISTRATION

[Notice-IEB-2024-08; Docket No. 2024-0002; Sequence No. 50]

Privacy Act of 1974; System of Records

AGENCY: Office of Information Technology (GSA-IT), General Services Administration (GSA).

ACTION: Notice of a new system of records.

SUMMARY: Pursuant to the provisions of the Privacy Act of 1974, notice is given that the GSA proposes to establish a new system of records, entitled GSA/PBS-11, GSA Real Estate Sales (G-RES). This system of records is for the GSA Real Estate Sales (G-RES) site, a public real estate bidding web application, hosted by GSA Public Buildings Service (PBS).

DATES: Submit comments on or before December 4, 2024.

ADDRESSES: Comments may be submitted to the Federal eRulemaking Portal, http://www.regulations.gov. Submit comments by searching for Notice-IEB-2024-08.

FOR FURTHER INFORMATION CONTACT: Call or email Richard Speidel, Chief Privacy Officer at 202-969-5830, or gsa.privacyact@gsa.gov.

SUPPLEMENTARY INFORMATION: GSA proposes to establish a system of records subject to the Privacy Act of 1974, 5 U.S.C. 552a. The system of records is being created to support the new GSA Real Estate Sales system, the records of which currently fall under the SORN GSA/FSS-13. The present system of records (GSA/PBS-11) will not include records previously covered by GSA/FSS-13. All records under GSA/PBS-11 will be newly-created for use in this system.

SYSTEM NAME AND NUMBER:

GSA Real Estate Sales (G-RES), GSA/PBS-11.

SECURITY CLASSIFICATION:

Unclassified.

SYSTEM LOCATION:

This cloud system is managed by GSA and Amazon. GSA is located at 1800 F Street NW, Washington, DC 20405. The headquarters for Amazon is located at 410 Terry Avenue North, Seattle, WA 98109.

SYSTEM MANAGER(S):

Dr. Jacqueline Rodriguez, IT Project Manager, GSA, 1800 F Street NW, Washington, DC 20405.

AUTHORITY FOR MAINTENANCE OF THE SYSTEM:

Federal Property and Administrative Services Act Of 1949, as amended; Public Law 107-217, ch. 288, 63 Stat. 377 (40 U.S.C. 121(c) and 40 U.S.C. 541, et seq.).

PURPOSE(S) OF THE SYSTEM:

To establish and maintain a system of records for conducting public sales of Federal real property by GSA.

CATEGORIES OF INDIVIDUALS COVERED BY THE SYSTEM:

The system includes individuals who request to be added to GSA bidders mailing lists, register to bid on GSA sales, and/or enter into contracts to buy Federal real property at sales conducted by GSA. Such individuals may be members of the public or represent public or private interests. In addition, GSA employees who administer the system and process are also included.

CATEGORIES OF RECORDS IN THE SYSTEM:

The system contains information needed to identify potential and actual bidders and awardees, and transaction information involving real property sales. System records include:

Personal information provided by bidders, including, but not limited to, names, phone numbers, addresses, email addresses, birth dates, and financial information. Additionally, real estate agent profiles containing first and last names, email, phone number, and address. Finally, information about GSA employees who administer the system, including name and business contact information.

RECORD SOURCE CATEGORIES:

Information is provided by individuals who wish to participate in the GSA real property sales program, and system transactions designed to gather and maintain data and to manage and evaluate the Federal real property disposal program.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside GSA as a routine use pursuant to 5 U.S.C. 552a(b)(3) as follows:

a. In any legal proceeding, where pertinent, to which GSA, a GSA employee, or the United States is a party before a court or administrative body.

b. To a Federal, State, local, or foreign agency responsible for investigating, prosecuting, enforcing, or carrying out a statute, rule, regulation, or order when GSA becomes aware of a violation or potential violation of civil or criminal law or regulation.

c. To an appeal, grievance, hearing, or complaints examiner; an equal employment opportunity investigator, arbitrator, or mediator; and an exclusive representative or other person authorized to investigate or settle a grievance, complaint, or appeal filed by an individual who is the subject of the record.

d. To the Office of Personnel Management (OPM), the Office of Management and Budget (OMB), and the Government Accountability Office (GAO) in accordance with their responsibilities for evaluating Federal programs.

e. To a Member of Congress or his or her staff on behalf of and at the request of the individual who is the subject of the record.

f. To an expert, consultant, or contractor of GSA in the performance of a Federal duty to which the information is relevant.

g. To the National Archives and Records Administration (NARA) for records management purposes.

h. In connection with any litigation or settlement discussions regarding claims by or against the GSA, including public filing with a court, to the extent that GSA determines the disclosure of the information is relevant and necessary to the litigation or discussions.

i. To appropriate agencies, entities, and persons when (1) GSA suspects or has confirmed that there has been a breach of the system of records, (2) GSA has determined that as a result of the suspected or confirmed breach there is a risk of harm to individuals, GSA (including its information systems, programs, and operations), the Federal Government, or national security; and (3) the disclosure made to such agencies, entities, and persons is reasonably necessary to assist in connection with GSA's efforts to respond to the suspected or confirmed breach or to prevent, minimize, or remedy such harm.

j. To another Federal agency or Federal entity, when GSA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

k. To compare such records to other agencies' systems of records or to non-Federal records, in coordination with an OIG in conducting an audit, investigation, inspection, evaluation, or some other review as authorized by the IG Act.

POLICIES AND PRACTICES FOR STORAGE OF RECORDS:

Electronic records are stored on a secure server with access limited to staff who may access the records only by means of a lawful government purpose. Information is encrypted in transit and at rest.

POLICIES AND PRACTICES FOR RETRIEVAL OF RECORDS:

Records are retrievable by a personal identifier or by other appropriate type of designation approved by GSA.

POLICIES AND PRACTICES FOR RETENTION AND DISPOSAL OF RECORDS:

Content in this system will be disposed according to the following GSA schedule:

121.1/050 Property Disposal Case Records. This series contains records related to the process of appraising federally-owned real property (both developed and undeveloped), and the disposal activities associated with closing, selling, destroying, transferring, or otherwise removing from the Federal Government's real property inventory. Such records include those used in the determination of excess real property, disposal of excess and surplus real property case files, correspondence, and related records.

Retention Instructions:

Permanent. Cut off at the end of the fiscal year following case completion and fulfillment of all restrictions on the disposed property. Transfer to NARA 15 years after cutoff.

Legal Disposition Authority: DAA-0121-2015-0001-0009 (121.1/050).

ADMINISTRATIVE, TECHNICAL, AND PHYSICAL SAFEGUARDS:

Records in the system are protected from unauthorized access and misuse through a combination of administrative and technical measures. Administrative measures include but are not limited to policies that limit system access to individuals within an agency with a legitimate business need, and regular review of security procedures and best practices to enhance security. Technical measures include but are not limited to system design that allows authorized system users access only to data for which they are responsible; AWS security tools; required use of Login.gov for application user account authorization and identity verification for real property bidders; required use of GSA SecureAuth for internal GSA users; and use of encryption for certain data transfers. Physical security measures are provided by the hosting service and ensure that unauthorized access to physical systems is not permitted.

RECORD ACCESS PROCEDURES:

If an individual wishes to access any data or record pertaining to him or her in the system after it has been submitted, that individual should consult the GSA's Privacy Act implementation rules available at 41 CFR part 105-64.2.

CONTESTING RECORD PROCEDURES:

If an individual wishes to contest the content of any record pertaining to him or her in the system after it has been submitted, that individual should consult the GSA's Privacy Act implementation rules available at 41 CFR part 105-64.4.

NOTIFICATION PROCEDURES:

If an individual wishes to be notified at his or her request if the system contains a record pertaining to him or her after it has been submitted, that individual should consult the GSA's Privacy Act implementation rules available at 41 CFR part 105-64.4.

EXEMPTIONS PROMULGATED FOR THE SYSTEM:

None.

HISTORY:

None.

Richard Speidel,
Chief Privacy Officer, Office of Enterprise Data & Privacy Management, General Services Administration.

[FR Doc. 2024-25577 Filed 11-1-24; 8:45 am]

BILLING CODE 6820-AB-P